SOCIAL SECURITY ADMINISTRATION

Agency Information Collection Activities: Proposed Request and Comment Request

The Social Security Administration (SSA) publishes a list of information collection packages that will require clearance by the Office of Management and Budget (OMB) in compliance with Public Law 104-13, the Paperwork Reduction Act of 1995, effective October 1, 1995. The information collection packages that may be included in this notice are for new information collections, approval of existing information collections, revisions to OMB-approved information collections, and extensions (no change) of OMB-approved information collections.

SSA is soliciting comments on the accuracy of the agency's burden estimate; the need for the information; its practical utility; ways to enhance its quality, utility, and clarity; and on ways to minimize burden on respondents, including the use of automated collection techniques or other forms of information technology. Written comments and recommendations regarding the information collection(s) should be submitted to the OMB Desk Officer and the SSA Reports Clearance Officer. The information can be mailed, faxed or e-mailed to the individuals at the addresses and fax numbers listed below:

(OMB), Office of Management and Budget, Attn: Desk Officer for SSA, Fax: 202-395-6974, E-mail address: OIRA_Submission@omb.eop.gov.

(SSA), Social Security Administration, DCBFM, Attn: Reports Clearance Officer, 1333 Annex Building, 6401 Security Blvd., Baltimore, MD 21235, Fax: 410-965-6400, E-mail address: OPLM.RCO@ssa.gov.

I. The information collections listed below are pending at SSA and will be submitted to OMB within 60 days from the date of this notice. Therefore, your comments should be submitted to SSA within 60 days from the date of this publication. You can obtain copies of the collection instruments by calling the SSA Reports Clearance Officer at 410-965-0454 or by writing to the address listed above.

1. Continuing Disability Review Report—20 CFR 404.1589, 416.989—0960-0072. SSA uses the information collected on Form SSA-454-BK to determine whether an individual who receives Social Security disability benefits continues to be disabled. The SSA-454-BK updates the record of the disabled individual, providing information on recent medical treatment, vocational and education experience, work activity, and evaluations of potential for work for adults. It also collects information on ability of Title XVI children to function without marked and severe limitation. On the basis of the responses provided, SSA obtains medical and other evidence in order to make a determination whether disability, as defined by the Social Security Act, continues or has ended, and, if so, when the disability ended. A continuing disability review (CDR) is typically done when a disabled individual's medical reexamination diary matures, or when medical improvement is reported. The number of CDRs done each fiscal year depends on the number of maturing diaries, reports of medical improvement and SSA budget constraints. The respondents are recipients of benefits based on disability under Title II and/or Title XVI of the Social Security Act.

Type of Request: Revision of an OMB-approved information collection.

Number of Respondents: 398,000.

Frequency of Response: 1.

Average Burden per Response: 60 minutes.

Estimated Annual Burden: 398,000 hours.

2. Cessation or Continuance of Disability or Blindness Determination and Transmittal—20 CFR 404.1512, 404.1588-1599, 404.1615—0960-0442. The information collected on the SSA-833-C3/U3 is used to make determinations of whether individuals receiving Title II disability benefits continue to be unable to engage in substantial gainful activity and are still eligible to receive benefits. The respondents are State Disability Determination Services (DDS) employees.

Type of Request: Extension of an OMB-approved information collection.

Number of Respondents: 190,507.

Frequency of Response: 1.

Average Burden per Response: 30 minutes.

Estimated Annual Burden: 95,254 hours.

II. The information collections listed below have been submitted to OMB for clearance. Your comments on the information collections would be most useful if received by OMB and SSA within 30 days from the date of this publication. You can obtain a copy of the OMB clearance packages by calling the SSA Reports Clearance Officer at 410-965-0454, or by writing to the address listed above.

1. Request for Review of Hearing Decision/Order—20 CFR 404.967-404.981, 416.1467-416.1481—0960-0277. The HA-520 is needed in order to afford claimants their statutory right under the Social Security Act and implementing regulations to request review of an Administrative Law Judge's (ALJ) hearing decision or dismissal of a hearing request on Title II and Title XVI claims. An individual may request an Appeals Council review by filing a written request. A completed HA-520 ensures that SSA receives the information necessary to establish that the claimant filed the request for review within the prescribed time, and that the claimant has completed the requisite steps to permit review by the Appeals Council. The Appeals Council also uses the information to document the claimant's reason(s) for disagreeing with the ALJ's decision or dismissal, to determine whether the claimant has additional evidence to submit, and to determine whether the claimant has a representative or wants to appoint one. The respondents are claimants requesting review of an ALJ's decision or dismissal of hearing.

Type of Request: Revision of an OMB-approved information collection.

Number of Respondents: 100,000.

Frequency of Response: 1.

Average Burden per Response: 10 minutes.

Estimated Annual Burden: 16,667 hours.

2. Employee Identification Statement—20 CFR 404.702—0960-0473. The information collected by Form SSA-4156 is used in scrambled earnings situations when two or more individuals have used the same Social Security Number (SSN), or when an employer (or employers) has reported earnings for two or more employees under the same SSN. The information on the form is used to help identify the individual (and the SSN) to whom the earnings belong. The respondents are employers involved in erroneous wage reporting.

Type of Request: Extension of an OMB-approved information collection.

Number of Respondents: 4,750.

Frequency of Response: 1.

Average Burden per Response: 10 minutes.

Estimated Annual Burden: 792 hours.

3. Authorization to Disclose Information to Social Security Administration—20 CFR 404.1512 & 20 CFR 416.912—0960-0623. SSA must obtain sufficient medical evidence to make eligibility determinations for Title II benefits and Title XVI payments. For SSA to obtain medical evidence, an applicant must authorize his or her medical source(s) to release the information to SSA. The applicant may use form SSA-827 to provide consent for the release of information. Generally, the State DDS completes the form(s) based on information provided by the applicant, and sends the form(s) to the designated medical source(s).

Type of Request: Revision of a currently approved information collection.

Reading, Signing, and Dating the 1st SSA-827
[10 minutes]
Total respondents | Number of reports by each respondent | Total annual responses | Estimated number of minutes per response | Total burden hours
3,853,928 | 1 | 3,853,928 | 10 | 642,321

Signing and Dating Three Additional SSA-827s
Total respondents | Number of reports by each respondent | Total annual responses | Estimated number of minutes per response | Total burden hours
3,853,928 | 3 | 11,561,784 | 1 | 192,696

Reading the Explanation of the SSA-827 on the Internet
Total respondents | Number of reports by each respondent | Total annual responses | Estimated number of minutes per response | Total burden hours
586,232 | 1 | 586,232 | 3 | 29,312

Collectively:

Number of Respondents: 3,853,928.

Average Burden per Response: 13 minutes to complete all four forms.

Estimated Annual Burden for Reading Internet Explanation: 29,312.

Estimated Annual Burden to Complete the Form: 864,329 hours.

Correction: The first and second Federal Register Notices reported incorrect burden information and mentioned two alternate versions of the form which were discontinued previously. We are publishing this correction Notice to show the correct burden information and remove the references to the two discontinued forms.

4. Epidemiological Research Report—20 CFR 401.165—0960-0701. Section 311 of the Social Security Independence and Program Improvements Act of 1994 directed SSA to provide support to health researchers involved in epidemiological research. Specifically, when a study is determined to contribute to a national health interest, SSA will furnish information to determine whether a study subject is shown on the SSA administrative records as being alive or deceased (vital status). SSA will recoup all expenses incurred in providing this information. Web-posted questions solicit the information SSA needs to provide the data and to collect the fees. The requestors are scientific researchers who are applying to receive vital status information about individuals from Social Security administrative data records.

Type of Request: Extension of an OMB-approved information collection.

Number of Respondents: 30.

Frequency of Response: 1.

Average Burden per Response: 120 minutes.

Estimated Annual Burden: 60 hours.

Dated: February 6, 2008.
Elizabeth A. Davidson,
Reports Clearance Officer, Social Security Administration.

[FR Doc. E8-2503 Filed 2-8-08; 8:45 am]

BILLING CODE 4191-02-P